INTERNATIONAL TRADE COMMISSION

[Investigation No. 337-TA-1225]

Notice of a Commission Determination Not to Review an Initial Determination Terminating the Investigation in Its Entirety Based on Withdrawal of the Complaint; Termination of the Investigation; Certain Active Matrix OLED Display Devices and Components Thereof

AGENCY: International Trade Commission.

ACTION: Notice.

SUMMARY: Notice is hereby given that the International Trade Commission has determined not to review an initial determination (“ID”) (Order No. 7) of the presiding administrative law judge (“ALJ”) terminating the investigation based on withdrawal of the complaint. The investigation is terminated.

FOR FURTHER INFORMATION CONTACT: Clint Gerdine, Esq., Office of the General Counsel, U.S. International Trade Commission, 500 E Street SW, Washington, DC 20436, telephone (202) 708-2310. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone 202-205-1810.

SUPPLEMENTARY INFORMATION: The Commission instituted this investigation on October 28, 2020, based on a complaint filed by Solas OLED Ltd. (“Solas”) of Dublin, Ireland. 85 FR 68368-69 (Oct. 28, 2020). The complaint alleges violations of section 337 of the Tariff Act of 1930, as amended, 19 U.S.C. 1337, based upon the importation into the United States, the sale for importation, and the sale within the United States after importation of certain active matrix OLED display devices and components thereof by reason of infringement of certain claims of U.S. Patent Nos. 8,139,007; 7,573,068; and 7,868,880. The complaint further alleges the existence of a domestic industry. The Commission's notice of investigation named the following as respondents: Apple Inc. of Cupertino, California; Sony Electronics Inc. of San Diego, California; Samsung Electronics America, Inc. of Ridgefield Park, New Jersey; Samsung Display Co., Ltd. and Samsung Electronics Co., Ltd., both of Gyeonggi-do, South Korea; Dell Technologies Inc. of Round Rock, Texas; Motorola Mobility LLC of Chicago, Illinois; LG Electronics Inc. and LG Display Co., Ltd., both of Seoul, South Korea; LG Display America, Inc. of San Jose, California; and LG Electronics USA, Inc. of Englewood Cliffs, New Jersey. The Office of Unfair Import Investigations is participating in the investigation.

On November 6, 2020, Solas moved to terminate the investigation in its entirety based on withdrawal of the complaint. No party opposed the motion.

On November 12, 2020, the ALJ issued the subject ID (Order No. 7), granting the unopposed motion to terminate the investigation in its entirety based on withdrawal of the complaint. The ID finds that the motion for termination satisfies Commission Rule 210.21(a)(1) (19 CFR 210.21(a)(1)) and that termination of the investigation is not contrary to the public interest. The ID also finds that no extraordinary circumstances exist that would prevent the requested termination. No party petitioned for review.

The Commission has determined not to review the subject ID. The investigation is terminated.

The Commission vote for this determination took place on November 24, 2020.

The authority for the Commission's determination is contained in section 337 of the Tariff Act of 1930, as amended, 19 U.S.C. 1337, and in part 210 of the Commission's Rules of Practice and Procedure, 19 CFR part 210.

By order of the Commission.
Issued: November 24, 2020.
William Bishop,
Supervisory Hearings and Information Officer.

[FR Doc. 2020-26357 Filed 11-27-20; 8:45 am]

BILLING CODE 7020-02-P